DEPARTMENT OF COMMERCE

National Oceanic and Atmospheric Administration

RIN 0648-XA139

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, January 31-February 8, 2011 at the Renaissance Hotel, 515 Madison Street, South Room, Seattle, WA.

DATES: The Council will begin its plenary session at 8 a.m. on Wednesday, February 2 continuing through Monday, February 7. The Council's Advisory Panel (AP) will begin at 8 a.m., Monday, January 31 and continue through Thursday, February 3 (Northwest Room). The Scientific and Statistical Committee (SSC) will begin at 8 a.m. on Monday, January 31 and continue through Wednesday, February 2, 2011 (East Room). The Enforcement Committee will meet Tuesday, February 1 from 1 p.m. to 5 p.m. (Marion Room). The Ecosystem Committee will meet Thursday, February 3, 2010 from 1 p.m. to 5 p.m. (James Room). All meetings are open to the public, except executive sessions.

ADDRESSES: The meetings will be held at the Renaissance Hotel, 515 Madison Street, Seattle, WA.

Council address: North Pacific Fishery Management Council, 605 W. 4th Avenue, Suite 306, Anchorage, AK 99501-2252.

FOR FURTHER INFORMATION CONTACT: David Witherell, Council staff, telephone: (907) 271-2809.

SUPPLEMENTARY INFORMATION: Council Plenary Session: The agenda for the Council's plenary session will include the following issues. The Council may take appropriate action on any of the issues identified.

Reports:

1. Executive Director's Report (including Statement of Organization, Practices and Procedures (SOPP)).

NMFS Management Report (including update on BSAI Freezer longline catch accounting, white paper on electronic monitoring).

Alaska Fishery Science Center Annual Report (include sablefish recruitment factors discussion paper and TRAWLEX report).

Alaska Department of Fish & Game Report.

International Pacific Halibut Commission Report.

United States Coast Guard Report.

United States Fish & Wildlife Service Report.

Protected Species Report (including update on Steller Sea Lion (SSL); Endangered Species Act (ESA) listed salmon).

American Fisheries Act (AFA) Cooperative reports.

2. Halibut/Sablefish Individual Fishing Quota (IFQ) Program: Initial review on Halibut/Sablefish Hired Skipper; Final action on Community Quota Entity (CQE) area 3A D class purchase.

3. Amendment 80 Program: Discussion paper on Am 80 Replacement Vessel Sideboards; Final action on Amendment 80 Groundfish Retention Standard (GRS) Program Changes; Report on flexibility of using unspecified reserves in specification process to address Am 80 hard caps.

4. Salmon Bycatch: Preliminary review BSAI Chum Salmon Bycatch; Review workplan for GOA Chinook Salmon Bycatch.

5. Essential Fish Habitat (EFH): Discussion paper/finalize alternatives on Habitat Area Particular Concern (HAPC)—Skate sites; Initial review for EFH Amendment(T).

6. Aleutian Island (AI) Pacific Cod Issues: Discussion paper on BS&AI Pacific cod Split take action as necessary; Initial review AI Pacific cod processing Sideboards; (postponed).

7. BSAI Crab Management: Final action on Right of First Refusal; Initial Review of IFQ/Individual Processing Quota (IPQ) Application Deadline.

8. Miscellaneous Groundfish Issues: Discussion paper on Sablefish Recruitment Factors; Discussion paper on GOA Trawl Sweep Modifications; Estimation of non-target species catch in halibut fishery (SSC only); Initial review on Octopus management(T).

9. Staff Tasking: Review Committees and tasking.

10. Other Business.

The SSC agenda will include the following issues:

1. Salmon Bycatch.

2. EFH.

3. AI Pacific Cod.

4. BSAI Crab Management.

5. Miscellaneous Groundfish.

6. Economic SAFE review.

7. NOAA Bering Sea Fisheries Research Foundation Survey results.

The Advisory Panel will address most of the same agenda issues as the Council, except for #1 reports. The Agenda is subject to change, and the latest version will be posted at http://www.alaskafisheries.noaa.gov/npfmc/.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: January 7, 2011.
Tracey L. Thompson,
Acting Director, Office of Sustainable Fisheries, National Marine Fisheries Service.

[FR Doc. 2011-521 Filed 1-11-11; 8:45 am]

BILLING CODE 3510-22-P